DEPARTMENT OF THE INTERIOR

Bureau of Land Management

[60% to CO-956-1420-BJ-0000-241A; 13⅓% to CO-956-1910-BJ-4667-241A; 26⅔% to CO-956-9820-BJ-C001-241A]

Colorado: Filing of Plats of Survey

September 30, 2004.

SUMMARY: The plats of survey of the following described land will be officially filed in the Colorado State Office, Bureau of Land Management, Lakewood, Colorado, effective 10 a.m., September 30, 2004. All inquiries should be sent to the Colorado State Office, Bureau of Land Management, 2850 Youngfield Street, Lakewood, Colorado 80215-7093.

The plat representing the dependent resurvey and surveys in Township 51 North, Range 1 West, New Mexico Principal Meridian, Group 1359, Colorado, was accepted July 20, 2004.

The plat representing the dependent resurvey and surveys in Township 50 North, Range 1 West, New Mexico Principal Meridian, Group 1359, Colorado, was accepted July 20, 2004.

The plat representing the dependent resurvey and survey, in section 7, Township 7 North, Range 101 West, Sixth Principal Meridian, Group 1379, Colorado, was accepted July 29, 2004.

The plat representing the dependent resurvey and survey in Township 3 South, Range 85 West, Sixth Principal Meridian, Group 1382, Colorado, was accepted August 3, 2004.

The plat, (in 16 sheets), representing the dependent resurveys and surveys in Section 7, of Township 4 South, Range 73 West, Sixth Principal Meridian, Group 690, Colorado, was accepted August 5, 2004.

The plat representing the dependent resurveys and surveys in Township 3 North, Range 84 West, Sixth Principal Meridian, Group 1398, Colorado, was accepted September 16, 2004.

The plat representing the dependent resurveys and surveys in Township 44 North, Range 4 East, New Mexico Principal Meridian, Group 1324, Colorado, was accepted September 21, 2004.

The plat representing the dependent resurveys and surveys in Township 45 North, Range 4 East, New Mexico Principal Meridian, Group 1324, Colorado, was accepted September 21, 2004.

The supplemental plat, creating new lots 28 and 29, in section 18, Township 8 South, Range 83 West, Sixth Principal Meridian, Colorado, was accepted September 24, 2004.

These surveys and plats were requested by the Bureau of Land Management for administrative and management purposes.

The plat representing the dependent resurvey and survey in Township 49 North, Range 7 East, New Mexico Principal Meridian, Group 1242, Colorado, was accepted September 9, 2004.

The plat representing the dependent resurvey and survey in Township 49 North, Range 8 East, New Mexico Principal Meridian, Group 1242, Colorado, was accepted September 9, 2004.

The plat representing the dependent resurvey and surveys in Township 48 North, Range 8 East, New Mexico Principal Meridian, Group 1245, Colorado, was accepted September 27, 2004.

These surveys, and plats were requested by the Forester, Salida Ranger District, Pike and San Isabel National Forests, to identify forest boundaries for administrative and management purposes.

The plat representing the dependent resurvey and survey in Township 7 North, Range 82 West, Sixth Principal Meridian, Group 1322, Colorado, was accepted September 16, 2004.

This survey and plat was requested by the Forest Supervisor, Medicine Bow-Routt National Forests, to identify the forest boundaries for administrative and management purposes.

The plat representing the dependent resurveys in Township 32 North, Range 2 West, New Mexico Principal Meridian, Group 1303, Colorado, was accepted August 27, 2004.

The plat representing the dependent resurveys in Township 32 North, Range 11 West, New Mexico Principal Meridian, Group 1354, Colorado, was accepted August 30, 2004.

These surveys and plats were requested by the Southern Ute Indian Tribe, through the Bureau of Indian Affairs, Albuquerque, New Mexico, to identify the reservation boundaries for administrative and management purposes.

Randall M. Zanon,
Chief Cadastral Surveyor for Colorado.

[FR Doc. 04-22630 Filed 10-7-04; 8:45 am]

BILLING CODE 4310-JB-M